DEPARTMENT OF HEALTH AND HUMAN SERVICES

Administration for Children and Families

[OMB #: 0970-0547]

Submission for Office of Management and Budget Review; Unaccompanied Alien Children Bureau Administrative Activities

AGENCY: Office of Refugee Resettlement, Administration for Children and Families, U.S. Department of Health and Human Services.

ACTION: Request for public comments.

SUMMARY: The Office of Refugee Resettlement (ORR), Administration for Children and Families (ACF), U.S. Department of Health and Human Services (HHS) is inviting public comment on revisions to an approved information collection, Office of Management and Budget (OMB) #0970-0547. The request consists of several forms that allow ORR to perform Unaccompanied Alien Children Bureau (UACB)-related administrative activities, such as facilitating stakeholder visits to care provider facilities; obtaining consent from children to share their case file information; and processing requests and waivers for the hiring of key and non-key personnel at care provider facilities.

DATES: Comments due June 26, 2025. OMB must decide about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this information collection by selecting “Currently under 30-day Review—Open for Public Comments” or by using the search function. You can also obtain copies of the proposed collection of information by emailing infocollection@acf.hhs.gov. Identify all emailed requests by the title of the information collection.

SUPPLEMENTARY INFORMATION:

Description: This request is to remove six forms, which will be transferred into a new information collection, and revise five existing forms in this collection. ORR also proposes retitling this information collection from “Administration and Oversight for the Unaccompanied Children Program” to “Unaccompanied Alien Children Bureau Administrative Activities” to better describe the types of forms in the information collection and to reflect with a recent name change for the program.

Forms Being Removed and Transferred Into a New Information Collection

ORR UACB is in the process of reorganizing its information collections to create more unique information collections that will contain fewer forms under each OMB control number. This will promote operational efficiency for UACB by decreasing the burden associated with renewing large collections and enabling UACB to create more purpose-specific information collections. In addition, this will facilitate OMB review by ensuring the scope of the collection is targeted and narrower than existing collections, resulting in clearer requests.

As part of that reorganization effort, ORR plans to move the Notification of Concern (Form A-7) into a new information collection titled “Home Study and Post-Release Services for Unaccompanied Alien Children.”

ORR also plans to move the following forms into a new information collection titled “Incident Reporting for the Unaccompanied Alien Children Bureau.” This request and the request for the new Incident Reporting information collection will be submitted to OMB concurrently.

• Child-Level Event (Form A-9A)

• Emergency Significant Incident Report (Form A-9B)

• Significant Incident Report (Form A-9C)

• Historical Disclosure (Form A-9D)

• Behavioral Note (Form A-9E)

• Program-Level Event Report (Form A-10)

Revisions to Existing Forms

ORR plans to make the following revisions to existing forms in this information collection:

• Authorization for Release of Records (Form A-5)

○ Change “UC” and “unaccompanied child” to “UAC” and “unaccompanied alien child” throughout the form.

○ Revise the burden estimate to account for an increase in the number records requests submitted and more accurately reflect how long it takes to complete the form. The annual number of respondents increased from 4,000 to 9,620 and the average burden hours per response increased from 0.25 to 0.5.

• Notice to Unaccompanied Alien Children for Class Counsel Visits (Forms A-4)

○ Expand the scope of the form so it may be used for visits from any class counsel, not just Flores counsel.

○ Change the title of the form from “Notice to UC for Flores Counsel Visits” to “Notice to Unaccompanied Alien Children for Class Counsel Visits”.

○ Change “UC” and “unaccompanied child” to “UAC” and “unaccompanied alien child” throughout the form.

○ Add a field for “Settlement Agreement” with dropdown options for active settlement agreements.

○ Update the language describing what the settlement generally requires of the government so that there is language that corresponds with each option in the “Settlement Agreement” dropdown field.

• Care Provider Facility Tour Request (Form A-1A)

○ Retitle the form from “Care Provider Facility Tour Request” to “Care Provider Facility Tour and Visit Request” to better represent the purpose of the form. In addition to tours, the form may also be used to request visits (requests to come onsite that do not involve a formal tour of the facility).

○ Change “UC” and “unaccompanied child” to “UAC” and “unaccompanied alien child” throughout the form.

○ Update the words “tour” or “visit” to read “tour or visit” wherever they appear by themselves in the form (as applicable).

○ Reword parts of the introductory text at the top of the form and instructions throughout the form for clarity.

○ Add “including HHS, ACF, ORR employees, and ORR contractors” in parentheses after the “Federal Agency” option for the “Type of Visitor” field to clarify which federal agencies must complete the form.

○ Revise the burden estimate to account for an increase in the number of requests submitted and more accurately reflect how long it takes to complete the form. The annual number of respondents increased from 200 to 620 and the average burden hours per response increased from 0.17 to 0.33.

• Key Personnel Minimum Qualifications Checklist and Attestation (Form A-14)

○ Change “UC” and “unaccompanied child” to “UAC” and “unaccompanied alien child” throughout the form.

○ Revise the introductory text to the form to remove repetition and improve readability.

○ Revise Section D: Candidate Minimum Qualifications to:

Reorganize how the minimum qualifications for each position are displayed to make it easier for the respondent to understand the requirements.

Change the “Candidate does not meet minimum qualification” checkbox into a question that asks “Does the candidate meet the minimum qualification?” with yes/no options so that the respondent may more clearly communicate whether the candidate meets minimum qualifications.

Update the qualifications for each position and add two new positions (Background Check Specialist and Lead Medical Coordinator) to reflect revisions that are under consideration for ORR's residential services cooperative agreement.

○ Revise the burden estimate to account for an increase in the number of care provider facilities, a decrease in the number of forms submitted, and more accurately reflect how long it takes to complete the form. The annual number of respondents increased from 235 to 300, the annual number of responses per respondent decreased from 9 to 6, and the average burden hours per response increased from 0.17 to 0.42.

• ORR Waiver Request (Form A-15)

○ Change “UC” and “unaccompanied child” to “UAC” and “unaccompanied alien child” throughout the form.

○ Add a burden statement at the top of the form.

○ Break the form into several sections to make it more digestible for respondents.

○ Rephrase several field labels for clarity and succinctness.

○ Add a field for the respondent to specify whether they are a care provider facility or a home study or post-release service provider.

○ Change the “Type of Facility/Provider” field label to “Level of Care” and update the related checkbox options to better reflect care provider facility levels of care.

○ Add a place where respondents can upload a supervision or training plan when applicable for their request.

○ Revise the burden estimate to account for an increase in the number of care provider facilities. The annual number of respondents increased from 235 to 300.

Respondents: ORR grantee and contractor staff; advocacy groups, faith-based organizations, researchers, and government officials; attorneys, legal service providers, child advocates, and government agencies; and other stakeholders.

Annual Burden Estimates
Form | Annual number of respondents | Number of responses per respondent | Average burden hours per response | Annual total burden hours
Care Provider Facility Tour Request (Form A-1A) | 620 | 1 | 0.33 | 205
Notice to Unaccompanied Alien Children for Flores Visits (Form A-4) | 20 | 1 | 0.25 | 5
Authorization for Release of Records (Form A-5) | 9,620 | 1 | 0.50 | 4,810
Key Personnel Minimum Qualifications Checklist and Attestation (Form A-14) | 300 | 6 | 0.42 | 756
ORR Waiver Request (Form A-15) | 300 | 2 | 0.33 | 198

Estimated Annual Burden Hours Total: 5,974.

Authority: 6 U.S.C. 279; 8 U.S.C. 1232; 45 CFR part 410; Flores v. Reno Settlement Agreement, No. CV85-4544-RJK (C.D. Cal. 1996)

Mary C. Jones,
ACF/OPRE Certifying Officer.

[FR Doc. 2025-09374 Filed 5-23-25; 8:45 am]

BILLING CODE 4184-45-P